DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and a copy of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive a copy of the patent application.

High Throughput Screening for Cancer Genes

Liotta et al. (NCI)

DHHS Reference No. E-209-2003/0-US-01 filed 28 Apr 2003

Licensing Contact: Catherine Joyce; 301/435-5031; joycec@mail.nih.gov.

The invention relates to the discovery of an assay system in Drosophila that is useful for (i) identifying genes that are functionally required for invasion and metastasis and (ii) screening for drugs that block tumor growth and metastasis. The system employs the lgl mutation in flies. Isolated lgl neoplastic tissues from imaginal discs and brain tissue of lgl larvae grow and metastasize rapidly upon transplantation into wild-type flies.

In the first embodiment of the assay system, random insertions into genes in the Drosophila genome are made using P-elements. Flies are bred to obtain larva that are homozygous for the lgl deletion and homozygous for a specific P-element insertion, and larval tissue is transplanted into an adult host to identify mutations that modulate lgl tissue tumorigenesis and metastasis phenotype in the host. Mutated genes can be readily cloned using the P element as tags. The inventors have successfully used this system to identify a link between class 5 semaphorins and cancer.

In the second embodiment of the assay system, lgl neoplastic tissue is introduced into an adult fly comprising a functional lgl gene, and a candidate therapeutic agent is introduced into the nutrient medium on which the fly, and/or larval forms of the fly, feed. The ability of the candidate therapeutic agent to modulate the pattern of tumor growth in the fly is then assessed by qualitative and quantitative measurements of abnormal cell proliferation in the flies.

This technology is available for licensing on a non-exclusive basis.

Dated: January 12, 2004.
Steven M. Ferguson,
Director, Division of Technology Development and Transfer, Office of Technology Transfer, National Institutes of Health.

[FR Doc. 04-1022 Filed 1-15-04; 8:45 am]

BILLING CODE 4140-01-P